NUCLEAR REGULATORY COMMISSION

[Docket No. 70-27]

Environmental Assessment and Finding of No Significant Impact of License Amendment for BWX Technologies, Inc.

AGENCY: Nuclear Regulatory Commission.

ACTION: Amendment of BWX Technologies, Inc., Materials License SNM-42 To authorize elimination of LTC stack continuous monitoring.

The U.S. Nuclear Regulatory Commission is considering the amendment of Special Nuclear Material License SNM-42 to authorize elimination of Lynchburg Technology Center (LTC) stack continuous monitoring and revise other air monitoring stack action levels at the BWX Technologies, Inc., facility located in Lynchburg, VA, and has prepared an Environmental Assessment in support of this action.

Environmental Assessment

Docket: 70-27.

Licensee: BWX Technologies (BWXT), Inc., Navy Nuclear Fuel Division, Lynchburg, Virginia.

Subject: Environmental Assessment for license amendment request dated July 16, 2002.

1.0 Introduction

1.1 Background

The Nuclear Regulatory Commission (NRC) staff has received a license request, dated July 16, 2002, to amend Special Nuclear Material License SNM-42 to eliminate the need for continuous air monitoring at the LTC on the BWX Technologies, Inc. (BWXT) site in Lynchburg, Virginia. The purpose of this document is to assess the environmental consequences of the proposed license amendment.

The BWXT facility in Lynchburg, VA is authorized under SNM-42 to possess nuclear materials for the fabrication and assembly of nuclear fuel components. The facility supports the U.S. naval reactor program, fabricates research and university reactor components, and manufactures compact reactor fuel elements. The facility also performs recovery of scrap uranium. The LTC specifically conducts research and development activities related to the fabrication of nuclear fuel components.

1.2 Review Scope

This environmental assessment (EA) serves to present information and analysis for determining whether to issue a Finding of No Significant Impact (FONSI) or to prepare an Environmental Impact Statement (EIS). Should the NRC issue a FONSI, no EIS would be prepared and the license amendment would be granted.

This document serves to evaluate and document the impacts of the proposed action. Other activities on the site have previously been evaluated and documented in the 1991 Environmental Assessment (EA) for the renewal of the NRC license for BWXT. The 1991 document is referenced when no significant changes have occurred. Besides the proposed licensing action, operations will continue to remain limited to those authorized by the license.

1.3 Proposed Action

The proposed action is to amend NRC Materials License SNM-42 to eliminate the need for continuous air monitoring at the LTC. The duration of the proposed activity is for as long as the facility holds a license with the NRC, or until BWXT requests and the NRC approves a license amendment.

Activities, utilizing licensed material, are conducted at the LTC in support of operating divisions of Babcock and Wilcox and for other companies and government organizations. Some of these activities include: failure analysis, fatigue and fracture analysis, hot cell work, hot machine shop work, environmental chemistry analysis, and radiochemistry analysis. The hot cell is vented through the 50-meter stack, located on the roof of the facility. The hot cell facility consists of four independent beta-gamma type hot cells. Work in the hot cells consists of examinations to investigate extended burn-up commercial light water reactor fuel rods, examination of advanced spacer grid designs, failed in-core instrument detectors, and failed fuel rods. Because cutting and puncturing of irradiated fuel releases noble gases and other radioactive gases and particulates, the stack monitoring system for the hot cells needs to be capable of detecting noble gases and alpha and beta radiation. The hot cells are the only areas vented through the 50 meter stack which can release noble gases and other radioactive gases and particulates.

The current license requires BWXT to continuously monitor the 50-meter stack by a system capable of measuring alpha and beta particulates and noble gases. The licensee is proposing to perform continuous monitoring only when working with Post Accident Samples (PAS) or uncut or unpunctured irradiated fuel with significant volatile radioisotope inventories. During periods when this type of work is not being performed, and significant volatile radioisotope sources are absent, the licensee will monitor the stack daily for alpha and beta particulates. Daily monitoring of the LTC stack will not include any change in the type or form of special nuclear material (SNM) or any new or different operations from those currently authorized under BWXT's license.

This daily sampling of the 50-meter stack will be similar to the sampling protocol for other existing stacks at the site. The sampler will include a calibrated flow meter and a collection filter. The filter will be collected and analyzed on a daily basis for alpha and beta particulates.

1.4 Purpose and Need for Proposed Action

BWXT indicates that maintaining the continuous alpha and beta particulate and noble gas monitoring is costly and not justified when work with PAS or unpunctured irradiated fuel is performed only sporadically. BWXT stated that the current inventory of irradiated fuel at the LTC has been cut and placed in storage and that limited future work with unpunctured irradiated fuel is anticipated.

1.5 Alternatives

The alternatives available to the NRC are:

1. Approve the license amendment request as submitted;

2. Approve the license amendment with restrictions; or

3. Deny the amendment request.

2.0 Affected Environment

The affected environment for Alternatives 1 and 2 is the BWXT site. A full description of the site and its characteristics is given in the 1991 Environmental Assessment (EA) for the Renewal of the NRC license for BWXT. The BWXT facility is located on a 525 acre (2 km²) site in the northeastern corner of Campbell County, approximately 5 miles (8km) east of Lynchburg, Virginia. This site is located in a generally rural area, consisting primarily of rolling hills with gentle slopes, farm land, and woodlands.

3.0 Effluent Releases and Monitoring

A full description of the effluent monitoring program at the site is provided in the 1991 Environmental Assessment for the Renewal of the NRC license for BWXT. Monitoring programs at the BWXT facility comprise effluent monitoring of air and water and environmental monitoring of various media (air, soil, vegetation, and groundwater). This program provides a basis for evaluation of public health and safety impacts, for establishing compliance with environmental regulations, and for development of mitigation measures if necessary. The monitoring program is not expected to change as a result of the proposed action. The NRC has reviewed the location of the environmental monitoring program sampling points, the frequency of sample collection, and the trends of the sampling program results in conjunction with the environmental pathway and exposure analysis and concluded that the monitoring program provides adequate protection of public health and safety.

The proposed activity will change the sampling of the 50-meter stack, which exhausts effluents from the hot cells, from continuous to daily, except when work with PAS or uncut or unpunctured irradiated fuel is being performed. During those times, the licensee will monitor the stack continuously. The hot cells are provided with two stages of HEPA filtration, before the effluents are released through the stack.

Continuous air samples are collected at the site boundaries by samplers which are nominally located at the four compass points. Other samples may be collected to ensure the plant operations are not adversely affecting the environment. The boundary air samples are compared to actions levels and if exceeded, appropriate investigative and corrective actions are taken.

4.0 Environmental Impacts of Proposed Action and Alternatives

4.1 Radiological Health Impacts

Daily monitoring of the LTC stack will not include any change in the type or form of special nuclear material (SNM) or any new or different operations from those currently authorized under BWXT's license. The impacts of normal operation of the site were evaluated in the 1991 Environmental Assessment (EA) for the Renewal of the NRC license for BWXT, and accident scenarios were evaluated in the BWXT Emergency Plan. The total effective dose equivalent (TEDE) for members of the public from the normal operations at the BWXT site was calculated to be 0.024 mrem per year.

Since the proposed amendment will not result in changes in the types or increases in the amounts of any effluents released, the dose to the worker and the public will remain the same if the amendment is approved.

4.2 Water Resources and Biota

Monitoring the LTC air effluents daily, as opposed to continuously, will have no impact on water resources or biota. Effluent amounts will not be increased and there will be no change in the composition of material released.

4.3 Geology and Seismology

Monitoring the LTC air effluents daily will have no impact on geology or seismology.

4.4 Soils

Soils will not be impacted as a result of monitoring the LTC air effluents daily. There will be no new construction, no physical disturbance of soils, and there will not be any releases of process materials to soils as a result of this amendment application.

4.5 Air Quality

The NRC staff has determined that the proposed amendment will have minimal impact on air quality. As discussed above, daily monitoring will be used to maintain radiological airborne releases within NRC limits.

4.6 Demography, Cultural and Historic Resources

The NRC staff has determined that the proposed amendment will not impact demography, or cultural or historic resources. A full description of these parameters is given in the 1991 Environmental Assessment for Renewal.

4.7 Impacts Due to Accident Conditions

In accordance with 10 CFR 70.61, BWXT is required to limit the risk of each credible high or intermediate consequence event through the application of engineered and/or administrative controls. Also nuclear criticality events must be limited through assurance that all processes are maintained at subcritical levels.

The impacts due to the worst-case accident conditions were evaluated for the hot cells. The worst-case scenario is described in Chapter 5 of the BWXT Emergency Plan. The scenario involves the ignition of zircaloy grindings, resulting in a release of plutonium through the stack. This accident would result in a possible exposure to the public of less than one millionth of a maximum allowable lung burden for plutonium. Thus, off-site exposure due to the worst-case accident in the hot cells is negligible.

4.8 Cumulative Impacts

The NRC has found no other activities in the areas that could result in cumulative impacts.

4.9 Alternatives

The action that the NRC is considering is approval of an amendment request to Materials License SNM-42 issued pursuant to 10 CFR Part 70. The alternatives available to the NRC are:

1. Approve the license amendment request as submitted;

2. Approve the license amendment request with restrictions; or

3. Deny the amendment request.

Based on its review, the NRC staff has concluded that the environmental impacts associated with the proposed action are insignificant. Thus, the staff considers that Alternative 1 is the appropriate alternative for selection.

5.0 Agencies and Persons Contacted

The NRC contacted the Director of Radiological Health at the Virginia Department of Health (VDH) August, 2002 concerning this request. There were no comments, concerns or objections from the state.

Because the proposed action is entirely within existing facilities, and does not involve new or increased effluents or accident scenarios, the NRC has concluded that there is no potential to affect endangered species or historic resources, and therefore consultation with the State Historic Preservation Society and the U.S. Fish and Wildlife Service was not performed.

6.0 References

U.S. Nuclear Regulatory Commission (NRC), August 1991, “Environmental Assessment for Renewal of Special Nuclear Material License SNM-42.”

BWX Technologies, July 16, 2002, Letter from Carl Yates to Director of Office of Nuclear Materials Safety and Safeguards, Amendment of License SNM-42.

BWX Technologies, November 28, 2001, “Mt. Athos Site Emergency Plan'.

7.0 Conclusions

Based on an evaluation of the environmental impacts of the amendment request, the NRC has determined that the proper action is to issue a FONSI in the Federal Register. The NRC staff considered the environmental consequences of amending NRC Special Nuclear Materials License SNM-42 to change the frequency of monitoring the stack from continuously to daily and have determined that the approval of the request will have no significant effect on public health and safety or the environment.

8.0 Finding of No Significant Impact

On the basis of this EA, the NRC has concluded that the environmental impacts associated with the proposed action would not be significant and do not warrant the preparation of an Environmental Impact Statement. Accordingly, the NRC is making a Finding of No Significant Impact.

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/reading-rm/adams.html (the Public Electronic Reading Room).

The NRC contact for this licensing action is Edwin Flack, who may be contacted at (301) 415-8115 or by e-mail at edf@nrc.gov for more information about the licensing action.

Dated at Rockville, Maryland, this 25th day of September, 2002.
For the Nuclear Regulatory Commission.
Daniel M. Gillen,
Chief, Fuel Cycle Facilities Branch, Division of Fuel Cycle Safety and Safeguards, Office of Nuclear Material Safety and Safeguards.

[FR Doc. 02-25084 Filed 10-1-02; 8:45 am]

BILLING CODE 7590-01-P